ENVIRONMENTAL PROTECTION AGENCY

[FRL-9225-3]

Public Water System Supervision Program Revision for the State of Colorado

AGENCY: Environmental Protection Agency (EPA)

ACTION: Notice.

SUMMARY: In accordance with the provisions of section 1413 of the Safe Drinking Water Act (SDWA), 42 U.S.C. 300g-2, and 40 CFR 142.13, public notice is hereby given that the State of Colorado has revised its Public Water System Supervision (PWSS) Primacy Program by adopting Federal regulations for the Lead and Copper Rule Short Term Regulatory Revisions which correspond to the National Primary Drinking Water Regulations (NPDWR) in 40 CFR part 141 and 142. The EPA has completed its review of these revisions in accordance with SDWA, and proposes to approve Colorado's primacy revisions for the above stated Rules.

Today's approval action does not extend to public water systems in Indian country, as defined in 18 U.S.C. 1151. Please see Supplementary Information, Item B.

DATES: Any member of the public may request a public hearing on this determination by December 15, 2010. Please see SUPPLEMENTARY INFORMATION, Item C, for details. Should no timely and appropriate request for a hearing be received, and the Regional Administrator (RA) does not elect to hold a hearing on his own motion, this determination shall become effective December 15, 2010. If a hearing is granted, then this determination shall not become effective until such time following the hearing, as the RA issues an order affirming or rescinding this action.

ADDRESSES: Requests for a public hearing shall be addressed to: James B. Martin, Regional Administrator, c/o Breann Bockstahler (8P-W-DW), U.S. EPA, Region 8, 1595 Wynkoop Street, Denver, CO 80202-1129.

All documents relating to this determination are available for inspection at the following locations: (1) US EPA, Region 8, Drinking Water Program, 1595 Wynkoop Street, Denver, CO 80202-1129, (2) Colorado Department of Public Health and Environment (CDPHE), Water Quality Control Division, 4300 Cherry Creek Drive South, Denver, CO 80246-1530.

FOR FURTHER INFORMATION CONTACT: Breann Bockstahler at 303-312-6034.

SUPPLEMENTARY INFORMATION: EPA approved Colorado's application for assuming primary enforcement authority for the PWSS Program, pursuant to section 1413 of SDWA, 42 U.S.C. 300g-2, and 40 CFR part 142. CDPHE administers Colorado's PWSS Program.

A. Why are revisions to State programs necessary?

States with primary PWSS enforcement authority must comply with the requirements of 40 CFR part 142 for maintaining primacy. They must adopt regulations that are at least as stringent as the NPDWRs at 40 CFR parts 141 and 142, as well as adopt all new and revised NPDWRs in order to retain primacy (40 CFR 142.12(a)). On October 10, 2007, EPA promulgated the Lead and Copper Rule Short Term Regulatory Revisions and by this action the State is following procedures to attain primacy.

B. How does today's action affect Indian country in Colorado?

Colorado is not authorized to carry out its PWSS Program in “Indian country”. This includes, but is not limited to, land within the formal Indian Reservations within or abutting the State of Colorado, including the Southern Ute Indian Reservation and the Ute Mountain Ute Indian Reservation, any land held in trust by the United States for an Indian tribe, and any other areas which are “Indian country” within the meaning of 18 U.S.C. 1151.

C. Requesting a Hearing

Any request for a public hearing shall include: (1) The name, address, and telephone number of the individual, organization, or other entity requesting a hearing; (2) a brief statement of the requester's interest in the RA's determination and of information that he/she intends to submit at such hearing; and (3) the signature of the requester or responsible official, if made on behalf of an organization or other entity.

Notice of any hearing shall be given not less than fifteen (15) days prior to the time scheduled for the hearing and will be made by the RA in the Federal Register and newspapers of general circulation in the State. A notice will also be sent to both the person(s) requesting the hearing and the State. The hearing notice will include a statement of purpose, information regarding time and location, and the address and telephone number where interested persons may obtain further information. The RA will issue a final determination upon review of the hearing record.

Frivolous or insubstantial requests for a hearing may be denied by the RA. However, if a substantial request is made within thirty (30) days after this notice, a public hearing will be held.

Please bring this notice to the attention of any persons known by you to have an interest in this determination.

Dated: April 15, 2010.
Carol Rushin,
Deputy Regional Administrator, Region 8.

Editorial Note: This document was received in the Office of the Federal Register on November 8, 2010.

[FR Doc. 2010-28497 Filed 11-12-10; 8:45 am]

BILLING CODE 6560-50-P